DEPARTMENT OF ENERGY

Federal Energy Regulatory Commission

[Docket No. AC23-125-000]

Western Power Pool; Notice of Petition for Waiver

Take notice that on June 9, 2023, Northwest Power Pool d/b/a Western Power Pool (WPP or Petitioner), filed a petition for waiver of the Federal Energy Regulatory Commission's (Commission) requirement to provide its FERC Form No. 3-Qs for 2023 on the basis that WPP was not a public utility until January 1, 2023 and requires additional time to align its accounting with the Commission's Uniform System of Accounts, all as more fully explained in the petition.

Any person desiring to intervene or to protest this filing must file in accordance with Rules 211 and 214 of the Commission's Rules of Practice and Procedure (18 CFR 385.211, 385.214). Protests will be considered by the Commission in determining the appropriate action to be taken but will not serve to make protestants parties to the proceeding. Any person wishing to become a party must file a notice of intervention or motion to intervene, as appropriate. Such notices, motions, or protests must be filed on or before the comment date. Anyone filing a motion to intervene, or protest must serve a copy of that document on the Petitioner.

The Commission encourages electronic submission of protests and interventions in lieu of paper using the “eFiling” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

In addition to publishing the full text of this document in the Federal Register, the Commission provides all interested persons an opportunity to view and/or print the contents of this document via the internet through the Commission's Home Page (http://ferc.gov) using the “eLibrary” link. Enter the docket number excluding the last three digits in the docket number field to access the document. For assistance, contact the Federal Energy Regulatory Commission at FERCOnlineSupport@ferc.gov or call toll-free, (886) 208-3676 or TYY, (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Comments: 5:00 p.m. Eastern Time on July 13, 2023.

Dated: June 13, 2023.
Kimberly D. Bose,
Secretary.

[FR Doc. 2023-13075 Filed 6-16-23; 8:45 am]

BILLING CODE 6717-01-P